DEPARTMENT OF TRANSPORTATION

Research and Special Programs Administration

49 CFR Parts 190, 191, 192, and 195

[Docket No. RSPA-99-6106]

RIN 2137-AD35

Pipeline Safety: Periodic Updates to Pipeline Safety Regulations (1999)

AGENCY: Research and Special Programs Administration (RSPA), DOT.

ACTION: Notice of proposed rulemaking.

SUMMARY: This proposed rule is part of a periodic effort by RSPA to revise and update the pipeline safety regulations to improve clarity, ensure consistency, and remove unnecessary requirements on the regulated pipeline community. Revisions include incorporation by reference of the most recent editions of voluntary consensus standards and specifications to enable pipeline operators to utilize current technology, materials, and practices. This document also proposes to increase the pressure limitation for new thermoplastic pipe, to allow plastic pipe on bridges, to clarify welding requirements, to revise the definition of hazardous liquid pipeline accident, and to make numerous minor clarifications.

DATES: Comments on the subject of this proposed rule must be received on or before May 22, 2000.

ADDRESSES: Comments should reference Docket No. RSPA-99-6106, and be mailed to the Dockets Facility, U.S. Department of Transportation, Plaza 401, 400 Seventh Street, SW, Washington, DC 20590-0001. You should submit the original and one copy. If you wish to receive confirmation of receipt of your comments, you must include a stamped, self-addressed postcard. The Dockets Facility is open from 10:00 a.m. to 5:00 p.m., Monday through Friday, except on Federal holidays. The public may also submit or review comments in this docket by accessing the Dockets Management System's home page at http://dms.dot.gov. An electronic copy of any rulemaking document or comment may be downloaded from the OPS home page at http://ops.dot.gov or from the Government Printing Office Electronic Bulletin Board Service at (202) 512-1661.

FOR FURTHER INFORMATION CONTACT: Richard D. Huriaux by telephone at (202) 366-4565, by fax at (202) 366-4566, by e-mail at richard.huriaux@rspa.dot.gov, or by mail at U.S. Department of Transportation, RSPA/Office of Pipeline Safety, Room 7128, 400 Seventh Street, SW, Washington, DC 20590-0001. Copies of this document or other material in the docket can be reviewed by accessing the Docket Management System's home page at http://dms.dot.gov. General information on the pipeline safety program is available at the Office of Pipeline Safety web site at http://ops.dot.gov.

SUPPLEMENTARY INFORMATION:

Background

This rulemaking is a periodic update of the pipeline safety regulations to ensure that the pipeline safety regulations incorporate the most current technical standards and specifications, to improve clarity, consistency, and accuracy, and to reduce unnecessary burdens on the regulated community.

In a March 1995 memorandum, President Clinton directed Federal regulatory agencies to, among other things, conduct a page-by-page review of all agency regulations, cutting or revising those that were obsolete, intrusive, or better handled by parties other than the Federal government (i.e., private business, State, or local government). In response to the President's directive, RSPA issued a final rule on May 24, 1996 (61 FR 26121) that updated references to voluntary specifications and standards. Subsequently, RSPA issued another periodic update on February 17, 1998, to incorporate by reference the latest editions of voluntary consensus standards and to make corrections and clarifications. RSPA intends to issue future periodic updates to ensure that the pipeline safety regulations reflect current practice and to improve compliance by the pipeline industry with safety standards.

Standards Incorporated by Reference

The “National Technology Transfer and Advancement Act of 1995” (Public Law 104-113) directs Federal agencies to use voluntary consensus standards in lieu of government-written standards whenever possible. Voluntary consensus standards are standards developed or adopted by voluntary bodies that develop, establish, or coordinate technical standards using agreed-upon procedures.

RSPA's Office of Pipeline safety participates in more than 25 national voluntary consensus standards committees. RPSA's policy is to adopt voluntary consensus standards when they are applicable. In recent years, RSPA has adopted dozens of voluntary consensus standards into its gas pipeline, hazardous liquid pipeline, and liquefied natural gas (LNG) regulations. RSPA has not adopted a government-written standard in lieu of a voluntary consensus standard and does not plan to do so in the future.

RSPA has reviewed the voluntary consensus standards currently referred to in the pipeline safety regulations and in its appendices, and proposes to adopt the latest editions of the standards that are incorporated by reference in 49 CFR Parts 192 and 195. The organizations responsible for producing these standards often update or revise them to incorporate the most current technology.

Parts 192 and 195 incorporate by reference all or portions of over 60 standards and specifications developed and published by technical organizations, including the American Petroleum Institute, American Gas Association, American Society of Mechanical Engineers, American Society for Testing and Materials, Manufacturers Standardization Society of the Valve and Fittings Industry, National Fire Protection Association, and Plastics Pipe Institute. The most recent editions of these documents represent a consensus on the best current practice and modern technology in the pipeline industry.

OPS proposes to adopt the most recent editions of the standards into the pipeline safety regulations. These are set forth by name and date in the proposed amendments to appendices A and B of Part 192 and § 195.3 of Part 195. The order and appearance in the CFR of the consensus standards has also been updated and clarified. In general, the only substantive change is reference the new edition and year of publication.

One entirely new standard is proposed for incorporation by reference in the gas pipeline safety regulations. We propose to adopt the Plastics Pipe Institute, Inc.'s technical recommendation, “Policies and Procedures for Developing Hydrostatic Design Bases (HDB), Pressure Design Bases (PDB), and Minimum Required Strength (MRS) Ratings for Thermoplastic Piping Materials” (PPI TR-3/2000). This standard would be referenced in the gas pipeline safety regulations at § 192.121, Design of plastic pipe. It will provide a method for determining hydrostatic design basis (HDB) for pipelines operating at any operating temperature by using the arithmetic interpolation procedure in Part E, Policy for determining long term strength (LTHS) by temperature interpolation, of PPI TR-3/2000. This will provide gas distribution pipeline operators with the flexibility to design safe plastic pipeline systems at any operating temperature.

In addition, RSPA proposes to update the addresses for each of the standards' organizations, to correct the numbering system, and to edit for clarity and typographical errors.

Petition to Limit Pressure of Thermoplastic Gas Pipe to a Maximum of 125 p.s.i.g.

On December 10, 1998 and November 23, 1999, the American Gas Association (AGA) petitioned RSPA to amend § 192.123 to allow the design pressure for thermoplastic pipe to be determined by its dimensions and the material's long-term strength as represented by the HDB in accordance with § 192.121 and to be limited to a maximum of 862 kPa (125 p.s.i.g.) instead of the current limitation of 689 kPa (100 p.s.i.g.). AGA stated that this increase in the pressure limitation for thermoplastic pipe used in gas distribution systems is clearly supported by the proven performance of modern polyethylene pipe and the successful operation of pipe at greater than 100 p.s.i.g. under the authority of waivers granted by state pipeline regulators. Further, their position is supported by laboratory and field analysis of the long-term hydrostatic strength of these piping materials. Copies of the AGA petitions are included in the docket.

This proposal would apply only to plastic pipe produced after the effective date of this rule. Existing pipes would continue to be limited to operation at the 689 kPa (100 p.s.i.g.). RSPA proposes to increase the pressure limitation for thermoplastic pipe to 862 kPa (125 p.s.i.g.).

Petition for Rule Change to Allow the Installation of Plastic Gas Pipe on Bridges

In 1993, the Gas Piping Technology Committee (GPTC) petitioned RSPA to allow the installation of plastic pipe on bridges. GPTC is designated as an American National Standards Institute standards committee for the purpose of developing and publishing the “Guide for Gas Transmission and Distribution Piping Systems”, to assist natural gas pipeline operators in efforts to comply with Part 192, to comment on proposed amendments to Part 192, and to propose amendments to Part 192. RSPA's Office of Pipeline Safety is represented on this committee.

GPTC requested that § 192.321 be amended to allow the use of plastic pipe on bridges provided that the plastic pipe is:

(1) Protected from mechanical damage, such as by installation in a metallic casing.

(2) Installed so that the temperature of the pipe will not exceed the limits specified in § 192.321.

(3) Protected from ultraviolet radiation.

In support of its petition the GPTC provided a technical report on Installation of Plastic Gas Pipeline Across Bridges, which is available in this docket.

Since 1993, RSPA has granted a number of waivers incorporating the GPTC conditions for installation of plastic pipe across bridges. There is no record of failure of plastic pipe that has been installed under these waivers. In addition, continued progress in the design, manufacture, and installation of plastic pipe have rendered it ever more fit for broad application in gas pipeline systems.

RSPA proposes to revise § 192.321 to allow the routine installation of plastic pipe on bridges subject to the conditions suggested by GPTC.

Confirmation or Revision of MAOP After a Change in Class Location

Section 192.611(d) allows 18 months for a gas pipeline operator to confirm or revise the maximum allowable operating pressure of a pipeline after a change in Class Location. A change is Class Location occurs when new buildings along a pipeline are ready for occupancy, not when the operator discovers that there are new buildings or completes its review. The time it takes for the operator to determine that the area has changed its Class Location and the time it takes to obtain the required environmental and land-use permits to complete the pressure testing to confirm a new MAOP may exhaust the current 18 month allowance. In addition, the internal budget process of the pipeline operators may cause further delay.

In light of these constraints on operators and the fact that there have been no pressure-related failures following class location changes, we propose to increase the allowable time to confirm or revise MAOP after a Class Location change from 18 months to 24 months.

Updates in Response to Recommendations on Welding in the SIRRC Report

In October 1997 the National Association of Pipeline Safety Representatives (NAPSR), the American Public Gas Association (APGA), and the American Gas Association (AGA) formed the State Industry Regulatory Review Committee (SIRRC), to discuss differences of opinion on NAPSR's proposed gas pipeline safety rule changes in Docket No. PS-124. AGA and APGA had proposed to coordinate discussions between the industry and NAPSR in an attempt to resolve those differences, as well as other items of mutual interest. NAPSR welcomed the opportunity to work with the industry, and passed a resolution in May of 1997 authorizing the NAPSR Liaison Committee to work with the industry representatives on these issues. The committee held four formal meetings on this initiative. At each meeting, the proposed PS-124 recommendations were discussed in-depth to ensure that representatives on both sides understood the issues from each of their perspectives. Members of the SIRRC agreed on many of the issues in the proposal (or subsequent modifications to the proposal), and agreed to disagree with some of the proposals. A copy of the SIRRC Summary Report (April 26, 1999) is available in this docket.

Although all 39 recommendations in the SIRRC report will be addressed in a subsequent rulemaking in Docket No. PS-124, several of the welding recommendations appear to be noncontroversial and will be dealt with in this periodic update docket. Specifically, SIRRC reached a consensus that § 192.255(a) should be amended to specify that welders must be qualified under “welding procedures qualified under American Petroleum Institute (API), American Society of Mechanical Engineers (ASME), or other accepted pipeline welding standards.” RSPA agrees that the specific references to the two widely accepted pipeline industry welding standards will make clear that operators should be using accepted welding standards in pipeline construction and repair. However, we are not aware of any “other accepted pipeline welding standards” that could be relied on by an operator for pipeline welding. In addition, we believe a more specific citation to the API and ASME standards is appropriate.

Therefore, RSPA proposes to amend § 192.255(a) to read “(a) Except as provided in paragraph (b) of this section, each welder must be qualified in accordance with Section 6 of API 1104 or Section IX of the ASME Boiler and Pressure Vessel Code. However, a welder qualified under an earlier edition than listed in Appendix A of this part may weld but may not requalify under that earlier edition.” RSPA commits to updating these references to accepted welding standards in periodic updates of the regulations, including the inclusion of additional pipeline welding standards as necessary.

SIRRC also proposed that § 192.241 be amended to make clear that visual inspection of welding must be conducted “by an inspector qualified by appropriate training and experience.” RSPA agrees and is proposing that this change be included in the pipeline safety rules.

Definition of Injury in Part 195

The hazardous liquid pipeline safety regulations at § 195.50 require an accident report for any event that includes a release of hazardous liquid from a pipeline with:

(1) An explosion or fire not intentionally set by the operator.

(2) Loss of 50 or more barrels of hazardous liquid.

(3) Escape to the atmosphere of more than 5 barrels a day of highly volatile liquids.

(4) Death of any person.

(5) Bodily harm to any person in one or more of the following:

—Loss of consciousness.

—Necessity to carry the person from the scene.

—Necessity for medical treatment.

—Disability which prevents the discharge of normal duties or the pursuit of normal activities beyond the day of the accident.

This means that even the most minor injury during a pipeline event can result in the entire accident being reportable if the person receives any “medical treatment”. The lack of a definition of medical treatment means that any kind of treatment, even a bandage applied at the scene or out-patient services received at a local clinic could make the accident reportable, even if it does not meet any of the other requirements for reportability.

In contrast, the gas pipeline safety regulations define a reportable gas pipeline event as one that includes a release of gas from a pipeline with

(1) A death or personal injury requiring in-patient hospitalization,

(2) Estimated property damage of $50,000 or more, or

(3) Any event that is significant in the judgment of the operator.

For gas pipelines, an injury treated at the scene or at a local clinic would not result in the incident being reportable, unless it meets one of the other requirements.

RSPA proposes to eliminate the reporting criteria discrepancy between Parts 192 and 195 to ensure that accident reporting is uniform for both gas and hazardous liquid pipelines. The reporting language in Part 192 was adopted before the language in Part 195 and embodies the original intent relative to the injury criteria for reportability of pipeline accidents. We do not believe that this change would cause any reportable hazardous liquid pipeline accidents to become non-reportable. For example, the 1994 San Jacinto River accident would still have been reportable based on product loss and property damage.

Therefore, RSPA proposes to revise § 195.50 by deleting the existing language in paragraph (e) and substituting the same language used for gas pipeline events, i.e., “[a] personal injury necessitating in-patient hospitalization.”

Petition of the GPTC on Strength Test Requirements for Flanges

In a November 27, 1996 letter the GPTC noted that most gas operators “have assumed that flange manufacturers test a prototype as described in 192.505(d)(2).” This turns out to be incorrect. Rather, most manufacturers meet the requirements by use of ASME/ANSI B16.5, B16.47, or MSS SP44, which contain standard pressure ratings. In addition, flange manufacturers have developed ratings of nonstandard flanges through unit stress calculations as described in § 192.143.

GPTC stated that each part of a pipeline must be able to stand the internal gas pressures and other mechanical loadings without impairment of serviceability with unit stresses equivalent to those allowed for comparable material in the pipe. If a design based on unit stresses is impractical for a particular pipeline component, GPTC suggests that design be based on a pressure rating established by pressure testing that component or a prototype of the component.

To clarify this situation and ensure that flanges and other components of a pipeline system can safely contain anticipated pressures and loadings, GPTC urges that we add the following paragraph to 192.505(d): (3) Flanges and components carrying a pressure rating established through ASME/ANSI, MSS specification, or by unit strength calculations as described in 192.143, General Requirements, do not require a strength test.”

The proposed language incorporates this language as a new paragraph § 192.505(d)(3) to ensure that flanges and other components of pipeline systems can safely contain the pressures to which they are subjected in the course of pipeline operations.

Clarifications, Corrections, and Edits

This document revises the pipeline safety regulations to correct language or clarify meaning in a number of sections, including:

1. § 190.11—The telephone number for Office of Pipeline Safety information and assistance would be changed to (202) 366-4431.

2. § 190.233—The title of § 190.233 would be corrected to read “Corrective action orders.”

3. § 191.7—The address for written reports would be changed to Room 7128.

4. § 192.3—The definition of Transmission line would be clarified by inserting a new paragraph in subsection (c) to make clear that the sentence, “A large volume customer may receive similar volumes of gas as a distribution center, and includes factories, power plants, and institutional users of gas”, is a general comment on the entire definition, and not a modifier of only item (c).

5. § 195.58—The address for written reports would be revised to correct the room number to Room 7128.

6. § 195.440—The paragraph would be revised to indicate that the education program required by this section includes reporting of hazardous liquid pipeline emergencies to qualified one-call centers, as well as “the operator or the fire, police, or other appropriate public officials.”

Rulemaking Analyses

Executive Order 12866

This final rule is not a significant regulatory action under section 3(f) of Executive Order 12866 (58 FR 51735) and, therefore, was not subject to review by the Office of Management and Budget (OMB). The final rule is not significant under the Regulatory Policies and Procedures of the Department of Transportation (44 FR 11034).

Executive Order 13132

The proposed rule has been analyzed in accordance with the principles and criteria contained in Executive Order 13132 (“Federalism”). This proposed rule does not propose any regulation that:

(1) Has substantial direct effected on the States, the relationship between the national government and the States, or the distribution of power and responsibilities among the various levels of government;

(2) Imposes substantial direct compliance costs on State and local governments; or

(3) Preempts state law.

Therefore, the consultation and funding requirements of Executive Order 13132 do not apply.

Executive Order 13084

The proposed rule has been analyzed in accordance with the principles and criteria contained in Executive Order 13084, “Consultation and Coordination with Indian Tribal Governments.” Because the proposed rules would not significantly or uniquely affect the Indian tribal governments, the funding and consultation requirements of Executive Order 13084 do not apply.

Regulatory Flexibility Act

This rulemaking will not impose additional requirements on pipeline operators, including small entities that operate regulated pipelines. Rather, the proposed rule clarifies parts of the pipeline safety regulations, incorporates the most recent editions of voluntary consensus standards, and provides additional operating flexibility to gas and hazardous liquid pipeline companies. Thus, this rulemaking may reduce costs to operators, including small entities. Based on the facts available about the expected impact of this rulemaking, I certify, under Section 605 of the Regulatory Flexibility Act (5 U.S.C. 605), that this rulemaking will not have a significant economic impact on a substantial number of small entities.

National Environmental Policy Act

We have analyzed the proposed rule changes for purposes of the National Environmental Policy Act (42 U.S.C. 4321 et seq.). Because the changes would require that alternative repair methods be as safe as the methods now allowed, we have preliminarily determined that the proposed changes would not significantly affect the quality of the human environment. An environmental assessment document is available for review in the docket.

Paperwork Reduction Act

There are no new information collection requirements in this final rule.

Impact on Business Processes and Computer Systems

We do not want to impose new requirements that would mandate business process changes when the resources necessary to implement those requirements would otherwise be applied to “Y2K” or related computer problems. This proposed rule would not mandate business process changes or require modifications to computer systems. Because this proposed rule would not affect organizations' ability to respond to those problems, we are not proposing to delay the effectiveness of the requirements.

Unfunded Mandates Reform Act of 1995

This rule does not impose unfunded mandates under the Unfunded Mandates Reform Act of 1995. It does not result in costs of $100 million or more to either State, local, or tribal governments, in the aggregate, or to the private sector, and is the least burdensome alternative that achieves the objective of the rule.

List of Subjects

49 CFR Part 190

Administrative practice and procedures, Penalties, Pipeline safety.

49 CFR Part 191

Pipeline safety, Reporting and recordkeeping requirements.

49 CFR Part 192

Incorporation by reference, Natural gas, Pipeline safety, Reporting and recordkeeping requirements.

49 CFR Part 195

Anhydrous ammonia, Carbon dioxide, Incorporation by reference, Petroleum, Pipeline safety, Reporting and recordkeeping requirements.

In consideration of the foregoing, RSPA proposes to amend 49 CFR Parts 190, 191, 192, and 195 as follows:

PART 190—[AMENDED]

1. The authority citation for part 190 continues to read as follows:

Authority: 33 U.S.C. 1321; 49 U.S.C. 5101-5127, 60101 et seq.; Sec. 212-213, Pub. L. 104-121, 110 Stat. 857; 49 CFR 1.53.

2. Paragraph (a)(1) of § 190.11 would be amended by revising the last sentence to read as follows:

§ 190.11 Availability of informal guidance and interpretive assistance.

(a) Availability of telephonic and Internet assistance. (1) * * * The telephone number for OPS information is (202) 366-4431 and the OPS website can be accessed via the Internet at http://ops.dot.gov.

* * * * *

3. The heading of § 190.233 would be revised to read as follows:

§ 190.233 Corrective action orders.

* * * * *

PART 191— [AMENDED]

1. The authority citation for part 191 continues to read as follows:

Authority: 49 U.S.C. 5121, 60102, 60103, 60104, 60108, 60117, 60118, and 60124; and 49 CFR 1.53

2. Section 191.7 would be amended by revising the first sentence to read as follows:

§ 191.7 Addressee for written reports.

Each written report required by this part must be made to the Information Resources Manager, Office of Pipeline Safety, Research and Special Programs Administration, U.S. Department of Transportation, Room 7128, 400 Seventh Street, SW, Washington, DC 20590. * * *

PART 192—[AMENDED]

1. The authority citation for part 192 continues to read as follows:

Authority: 49 U.S.C. 5103, 60102, 60104, 60108, 60109, 60110, 60113, and 60118; and 49 CFR 1.53.

2. The definition of Transmission line in § 192.3 would be revised to read as follows:

§ 192.3 Definitions.

* * * * *

Transmission line means:

(1) A pipeline, other than a gathering line, that:

(i) Transports gas from a gathering line or storage facility to a distribution center, storage facility, or large volume customer that is not downstream from a distribution center;

(ii) Operates at a hoop stress of 20 percent or more of SMYS; or

(iii) Transports gas within a storage field.

(2) A large volume customer may receive similar volumes of gas as a distribution center, and includes factories, power plants, and institutional users of gas.

* * * * *

3. Section 192.121 would be amended by revising the definition for “S” following the equation to read as follows:

§ 192.121 Design of plastic pipe.

* * * * *

Where:

* * * * *

S=For thermoplastic pipe, the HDB determined in accordance with the listed specification at a temperature equal to 73°F (23 °C), 100°F (38°C), 120°F (49°C), or 140°F (60°C). In the absence an HDB established at the specified temperature, the HDB of a higher temperature may be used in determining a design pressure rating at the specified temperature by arithmetic interpolation using the procedure in Part E, Policy for determining long term strength (LTHS) by temperature interpolation, of PPI TR-3/2000. For reinforced thermosetting plastic pipe, 11,000 psi (75,842 kPa).

* * * * *

4. Section 192.123 would be amended by revising paragraphs (a) introductory text and (b)(2)(i) and adding paragraph (e) to read as follows:

§ 192.123 Design limitations for plastic pipe.

(a) Except as provided in paragraph (e) of this section, the design pressure may not exceed a gauge pressure of 689 kPa (100 p.s.i.g.) for plastic pipe used in:

* * * * *

(b) * * *

(2) * * *

(i) For thermoplastic pipe, the temperature at which the HDB used in the design formula under § 192.121 is determined. However, if the pipe was manufactured before May 18, 1978, and its HDB was determined at 73°F (23°C), it may be used at temperatures up to 100°F (38°C).

* * * * *

(e) The design pressure for thermoplastic pipe produced after [effective date of final rule] may exceed a gauge pressure of 689 kPa (100 p.s.i.g.) provided that:

(1) The design pressure does not exceed 862 kPa (125 p.s.i.g.);

(2) The material is a PE2406 or a PE3408 as specified within ASTM D2513;

(3) The pipe size is nominal pipe size (IPS) 12 or less; and

(4) The design pressure is determined in accordance with the design equation defined in § 192.121.

5. Paragraph (a) of § 192.145 would be revised to read as follows:

§ 192.145 Valves.

(a) Except for cast iron and plastic valves, each valve must meet the minimum requirements of API 6D. A valve may not be used under operating conditions that exceed the applicable pressure-temperature ratings contained in those requirements.

* * * * *

6. Section 192.225 would be amended by revising the section heading and paragraph (a) to read as follows:

§ 192.225 Welding procedures.

(a) Welding must be performed by a qualified welder in accordance with welding procedures qualified under Section 5 of API 1104 or Section IX of the ASME Boiler and Pressure Vessel Code. The quality of the test welds used to qualify the procedure shall be determined by destructive testing.

* * * * *

7. Paragraph (a) of § 192.227 would be revised to read as follows:

§ 192.227 Qualification of welders.

(a) Except as provided in paragraph (b) of this section, each welder must be qualified in accordance with Section 6 of API 1104 or Section IX of the ASME Boiler and Pressure Vessel Code. However, a welder qualified under an earlier edition than listed in Appendix A of this part may weld but may not requalify under that earlier edition.

* * * * *

8. Paragraph (c)(1) of § 192.229 would be revised to read as follows:

§ 192.229 Limitations on welders.

* * * * *

(c) * * *

(1) May not weld on pipe to be operated at a pressure that produces a hoop stress of 20 percent or more of SMYS unless within the preceding 7½ calendar months, but at least twice each calendar year, the welder has had one weld tested and found acceptable under section 6 or 9 of API 1104, except that a welder qualified under an earlier edition previously listed in Appendix A of this part may weld but may not requalify under that earlier edition; and

* * * * *

9. Section 192.241 would be amended by revising paragraph (a) introductory text and the last sentence of paragraph (c) to read as follows:

§ 192.241 Inspection and test of welds.

(a) Visual inspection of welding must be conducted by an inspector qualified by appropriate training and experience to ensure that:

* * * * *

(c) * * * However, if a girth weld is unacceptable under those standards for a reason other than a crack, and if Appendix A to API 1104 applies to the weld, the acceptability of the weld may be further determined under that appendix.

10. The heading of § 192.283 would be revised to read as follows:

§ 192.283 Plastic pipe: Qualifying joining procedures.

* * * * *

11. The heading of § 192.285 would be revised to read as follows:

§ 192.285 Plastic pipe: Qualifying persons to make joints.

* * * * *

12. The heading of § 192.287 would be revised to read as follows:

§ 192.287 Plastic pipe: Inspection of joints.

* * * * *

13. Section 192.321 would be amended by revising paragraph (a) and adding paragraph (h) to read as follows:

§ 192.321 Installation of plastic pipe.

(a) Plastic pipe must be installed below ground level except as provided by paragraphs (g) and (h) of this section.

* * * * *

(h) Plastic pipe may be installed on bridges provided that it is:

(1) Installed with protection from mechanical damage, such as installation in a metallic casing;

(2) Protected from ultraviolet radiation; and

(3) Not allowed to exceed the pipe temperature limits specified in § 192.123.

14. Section 192.505 would be amended by revising paragraphs (d)(1), (d)(2), and (d)(3) to read as follows:

§ 192.505 Strength test requirements for steel pipeline to operate at a hoop stress of 30 percent or more of SMYS.

* * * * *

(d) * * *

(1) The component was tested to at least the pressure required for the pipeline to which it is being added;

(2) The component was manufactured under a quality control system that ensures that each item manufactured is at least equal in strength to a prototype and that the prototype was tested to at least the pressure required for the pipeline to which it is being added; or

(3) The component carries a pressure rating established through ASME/ANSI, MSS specification, or a pressure rating established by unit strength calculations as described in § 192.143.

* * * * *

15. Paragraph (d) of § 192.611 would be revised to read as follows:

§ 192.611 Change in class location: Confirmation or revision of maximum allowable operating pressure.

* * * * *

(d) Confirmation or revision of the maximum allowable operating pressure that is required as a result of a study under § 192.609 must be completed within 24 months of the change in class location. Pressure reduction under paragraph (a) (1) or (2) of this section within the 24-month period does not preclude establishing a maximum allowable operating pressure under paragraph (a)(3) of this section at a later date.

16. Section 192.614 would be amended by republishing paragraph (d) introductory text and revising paragraphs (c)(5), (d)(1), (d)(2), and (e) introductory text to read as follows:

§ 192.614 Damage prevention program.

* * * * *

(c) * * *

(5) Provide for temporary marking of buried pipelines in the area of excavation activity before the activity begins, except in emergencies.

* * * * *

(d) A damage prevention program under this section is not required for the following pipelines:

(1) Pipelines located offshore.

(2) Pipelines to which access is physically controlled by the operators.

* * * * *

(e) Pipelines operated by persons other than municipalities (including operators of master meter systems) whose primary activity does not include the transportation of gas need not comply with the following:

* * * * *

17. Paragraph (b)(2) of § 192.723 would be revised to read as follows:

§ 192.723 Distribution systems: Leakage surveys.

* * * * *

(b) * * *

(2) A leakage survey with leak detector equipment must be conducted outside of business districts as frequently as necessary at intervals not exceeding 63 months, but at least once every 5 calendar years. However, for cathodically unprotected distribution lines subject to § 192.465(e) on which electrical surveys for corrosion are impractical, leakage surveys must be conducted at intervals not exceeding 39 months, but at least once every 3 calendar years.

18. Appendix A of Part 192 would be revised to read as follows:

Appendix A to Part 192—Incorporated by Reference

I. List of Organizations and Addresses

A. American Gas Association (AGA), 400 North Capitol Street, NW, Washington, DC 20001.

B. American Petroleum Institute (API), 1220 L Street, NW, Washington, DC 20005.

C. American Society for Testing and Materials (ASTM), 100 Barr Harbor Drive, West Conshohocken, PA 19428.

D. American Society of Mechanical Engineers (ASME), 3 Park Avenue, New York, NY 10016-5990.

E. Manufacturers Standardization Society of the Valve and Fittings Industry, Inc. (MSS), 127 Part Street, NW, Vienna, VA 22180.

F. National Fire Protection Association (NFPA), 1 Batterymarch Park, P.O. Box 9101, Quincy, MA 02269-9101.

G. Plastics Pipe Institute, Inc. (PPI), 1825 Connecticut Avenue, NW, Suite 680, Washington, DC 20009.

II. Documents Incorporated by Reference (Numbers in Parentheses Indicate Applicable Editions)

A. American Gas Association (AGA):

(1) AGA Pipeline Research Committee, Project PR-3-805, “A Modified Criterion for Evaluating the Remaining Strength of Corroded Pipe” (December 22, 1989).

B. American Petroleum Institute (API):

(1) API Specification 5L “Specification for Line Pipe” (42nd edition, 2000)

(2) API Recommended Practice 5L1 “Recommended Practice for Railroad Transportation of Line Pipe” (4th edition, 1990).

(3) API Specification 6D “Specification for Pipeline Valves (Gate, Plug, Ball, and Check Valves)” (21st edition, 1994).

(4) API 1104 “Welding of Pipelines and Related Facilities” (19th edition, 1999).

C. American Society for Testing and Materials (ASTM):

(1) ASTM Designation: A 53 “Standard Specification for Pipe, Steel, Black and Hot-Dipped, Zinc-Coated, Welded and Seamless” (A53-99).

(2) ASTM Designation: A106 “Standard Specification for Seamless Carbon Steel Pipe for High-Temperature Service” (A106-99).

(3) ASTM Designation: A333/A333M “Standard Specification for Seamless and Welded Steel Pipe for Low-Temperature Service” (A333/A333M-99).

(4) ASTM Designation: A372/A372M “Standard Specification for Carbon and Alloy Steel Forgings for Thin-Walled Pressure Vessels” (A372/A372M-99).

(5) ASTM Designation: A381 “Standard Specification for Metal-Arc-Welded Steel Pipe for Use With High-Pressure Transmission Systems” (A381-96).

(6) ASTM Designation: A671 “Standard Specification for Electric-Fusion-Welded Steel Pipe for Atmospheric and Lower Temperatures” (A671-96).

(7) ASTM Designation: A672 “Standard Specification for Electric-Fusion-Welded Steel Pipe for High-Pressure Service at Moderate Temperatures” (A672-96).

(8) ASTM Designation: A691 “Standard Specification for Carbon and Alloy Steel Pipe, Electric-Fusion-Welded for High-Pressure Service at High Temperatures” (A691-98).

(9) ASTM Designation: D638 “Standard Test Method for Tensile Properties of Plastics” (D638-97).

(10) ASTM Designation: D2513 “Standard Specification for Thermoplastic Gas Pressure Pipe, Tubing, and Fittings” (D2513-87 edition for § 192.63(a)(1), otherwise D2513-98).

(11) ASTM Designation: D 2517 “Standard Specification for Reinforced Epoxy Resin Gas Pressure Pipe and Fittings” (D2517-98)

(12) ASTM Designation: F1055 “Standard Specification for Electrofusion Type Polyethylene Fittings for Outside Diameter Controlled Polyethylene Pipe and Tubing” (F1055-98).

D. The American Society of Mechanical Engineers (ASME):

(1) ASME/ANSI B16.1 “Cast Iron Pipe Flanges and Flanged Fittings” (1998).

(2) ASME/ANSI B16.5 “Pipe Flanges and Flanged Fittings” (1996, includes 1998 Addenda).

(3) ASME/ANSI B31G “Manual for Determining the Remaining Strength of Corroded Pipelines” (1991).

(4) ASME/ANSI B31.8 “Gas Transmission and Distribution Piping systems” (1995).

(5) ASME Boiler and Pressure Vessel Code, Section I “Power Boilers” (1998).

(6) ASME Boiler and Pressure Vessel Code, Section VIII, Division 1 “Pressure Vessels” (1998).

(7) ASME Boiler and Pressure Vessel Code, Section VIII, Division 2 “Pressure Vessels: Alternative Rules” (1998).

(8) ASME Boiler and Pressure Vessel Code, Section IX “Welding and Brazing Qualifications” (1998).

E. Manufacturers Standardization Society of the Valve and Fittings Industry, Inc. (MSS):

(1) MSS SP44-96 “Steel Pipe Line Flanges” (includes 1996 errata) (1996).

(2) [Reserved]

F. National Fire Protection Association (NFPA):

(1) NFPA 30 “Flammable and Combustible Liquids Code” (1996).

(2) ANSI/NFPA 58 “Standard for the Storage and Handling of Liquefied Petroleum Gases” (1998).

(3) ANSI/NFPA 59 “Standard for the storage and Handling of Liquefied Petroleum Gases at Utility Gas Plants” (1998).

(4) ANSI/NFPA 70 “National Electrical Code” (1999).

G. Plastics Pipe Institute, Inc. (PPI):

(1) PPI TR-3/2000 “Policies and Procedures for Developing Hydrostatic Design Bases (HDB), Pressure Design Bases (PDB), and Minimum Required Strength (MRS) Ratings for Thermoplastic Piping Materials” (2000).

19. Appendix B to Part 192 would be amended by revising part I and the heading of part II.A. to read as follows:

Appendix B to Part 192—Qualification of Pipe

I. Listed Pipe Specifications (Numbers in Parentheses Indicate Applicable Editions)

API 5L—Steel pipe (2000)

ASTM A 53-Steel pipe (A 53-99).

ASTM A 106—Steel pipe (A 106-99)

ASTM A 333/A 333M—Steel pipe (A 333/A 333M-99)

ASTM A 381—Steel pipe (A 381-96)

ASTM D 671—Steel pipe (A 671-96)

ASTM D 672—Steel pipe (A 672-96)

ASTM D 691—Steel pipe (A 691-98)

ASTM D 2513—Thermoplastic pipe and tubing (D 2513-98)

ASTM D 2517—Thermosetting plastic pipe and tubing (D 2517-98)

II. Steel Pipe of Unknown or Unlisted Specification

A. Bending properties. * * *

* * * * *

PART 195—[AMENDED]

1. The authority citation for part 195 continues to read as follows:

Authority: 49 U.S.C. 5103, 60102, 60104, 60108, 60109, 60118; and 49 CFR 1.53

2. Section 195.2 would be amended by adding a definition in alphabetical order to read as follows:

§ 195.2 Definitions.

* * * * *

Maximum operating pressure (MOP) means the maximum pressure at which a pipeline or segment of a pipeline may be normally operated under this part.

* * * * *

3. Section 195.3 would be amended by revising paragraphs (b) and (c) to read as follows:

§ 195.3 Matter incorporated by reference.

* * * * *

(b) All incorporated materials are available for inspection in the Research and Special Programs Administration, 400 Seventh Street, SW., Washington, DC, and at the office of the Federal Register, 800 North Capitol Street, NW., Suite 700, Washington, DC. These materials have been approved for incorporation by reference by the Director of the Federal Register in accordance with 5 U.S.C. 552(a) and 1 CFR part 51. In addition, materials incorporated by reference are available as follows:

(1) American Gas Association (AGA), 400 North Capitol Street, NW, Washington, DC 20001.

(2) American Petroleum Institute (API), 1220 L Street, NW, Washington, DC 20005.

(3) American Society of Mechanical Engineers (ASME), 3 Park Avenue, New York, NY 10016-5990.

(4) Manufacturers Standardization Society of the Valve and Fittings Industry, Inc. (MSS), 127 Part Street, NW, Vienna, VA 22180.

(5) American Society for Testing and Materials (ASTM), 100 Barr Harbor Drive, West Conshohocken, PA 19428.

(6) National Fire Protection Association (NFPA), 1 Batterymarch Park, P.O. Box 9101, Quincy, MA 02269-9101.

(c) The full titles of publications incorporated by reference wholly or partially in this part are as follows. Numbers in parentheses indicate applicable editions:

(1) American Gas Association (AGA):

(i) AGA Pipeline Research Committee, Project PR-3-805, “A Modified Criterion for Evaluating the Remaining Strength of Corroded Pipe” (December 22, 1989). The RSTRENG program may be used for calculating remaining strength.

(ii) [Reserved]

(2) American Petroleum Institute (API):

(i) API Specification 5L “Specification for Line Pipe” (42nd edition, 2000)

(ii) API Specification 6D “Specification for Pipeline Valves (Gate, Plug, Ball, and Check Valves)” (21st edition, 1994).

(iii) API Specification 12F “Specification for Shop Welded Tanks for Storage of Production Liquids” (11th edition, November 1994).

(iv) API 510 “Pressure Vessel Inspection Code: Maintenance Inspection, Rating, Repair, and Alteration” (8th edition, June 1997).

(v) API Standard 620 “Design and Construction of Large, Welded, Low-Pressure Storage Tanks” (8th edition, 1990).

(vi) API 650 “Welded Steel Tanks for Oil Storage” (1998).

(vii) API Recommended Practice 651 “Cathodic Protection of Aboveground Petroleum Storage Tanks” (2nd edition, December 1997).

(viii) API Recommended Practice 652 “Lining of Aboveground Petroleum Storage Tank Bottoms” (2nd edition, December 1997).

(ix) API Standard 653 “Tank Inspection, Repair, Alteration, and Reconstruction” (2nd edition, December 1995, including Addenda 1, December 1996).

(x) API 1104 “Welding of Pipelines and Related Facilities” (19th edition, 1999).

(xi) API Standard 2000 “Venting Atmospheric and Low-Pressure Storage Tanks” (4th edition, September 1992).

(xii) API Recommended Practice 2003 “Protection Against Ignitions Arising out of Static, Lightning, and Stray Currents” (6th edition, December 1998).

(xiii) API Publication 2026 “Safe Access/Egress Involving Floating Roofs of Storage Tanks in Petroleum Service” (2nd edition, April 1998).

(xiv) API Recommended Practice 2350 “Overfill Protection for Storage Tanks In Petroleum Facilities” (2nd edition, January 1996).

(xv) API Standard 2510 “Design and Construction of LPG Installations” (7th edition, May 1995).

(3) American Society of Mechanical Engineers (ASME):

(i) ASME/ANSI B16.9 “Factory-Made Wrought Steel Buttwelding Fittings” (1993).

(ii) ASME/ANSI B31.4 “Pipeline Transportation Systems for Liquid Hydrocarbons and Other Liquids” (1998).

(iii) ASME/ANSI B31.8 “Gas Transmission and Distribution Piping Systems” (1995).

(iv) ASME/ANSI B31G “Manual for Determining the Remaining Strength of Corroded Pipelines” (1991).

(v) ASME Boiler and Pressure Vessel Code, Section VIII “Pressure Vessels,” Divisions 1 and 2 (1998).

(vi) ASME Boiler and Pressure Vessel Code, Section IX “Welding and Brazing Qualifications” (1998).

(4) Manufacturers Standardization Society of the Valve and Fittings Industry, Inc. (MSS):

(i) MSS SP-75 “Specification for High Test Wrought Butt Welding Fittings” (1993).

(ii) [Reserved]

(5) American Society for Testing and Materials (ASTM):

(i) ASTM Designation: A53 “Standard Specification for Pipe, Steel, Black and Hot-Dipped, Zinc-Coated Welded and Seamless” (A53-99).

(ii) ASTM Designation: A106 “Standard Specification for Seamless Carbon Steel Pipe for High-Temperature Service” (A106-99).

(iii) ASTM Designation: A 333/A 333M “Standard Specification for Seamless and Welded Steel Pipe for Low-Temperature Service” (A 333/A 333M-99).

(iv) ASTM Designation: A 381 “Standard Specification for Metal-Arc-Welded Steel Pipe for Use With High-Pressure Transmission Systems” (A 381-96).

(v) ASTM Designation: A 671 “Standard Specification for Electric-Fusion-Welded Steel Pipe for Atmospheric and Lower Temperatures” (A 671-96).

(vi) ASTM Designation: A 672 “Standard Specification for Electric-Fusion-Welded Steel Pipe for High-Pressure Service at Moderate Temperatures” (A 672-96).

(vii) ASTM Designation: A 691 “Standard Specification for Carbon and Alloy Steel Pipe Electric-Fusion-Welded for High-Pressure Service at High Temperatures” (A 691-98).

(6) National Fire Protection Association (NFPA):

(i) ANSI/NFPA 30 “Flammable and Combustible Liquids Code” (1996).

(ii) [Reserved]

4. Paragraph (e) of § 195.50 would be revised to read as follows:

§ 195.50 Reporting accidents.

* * * * *

(e) A personal injury necessitating in-patient hospitalization.

* * * * *

5. Section 195.58 would be amended by revising the first sentence to read as follows:

§ 195.58 Address for written reports.

Each written report required by this subpart must be made to the Information Resources Manager, Office of Pipeline Safety, Research and Special Programs Administration, U.S. Department of Transportation, Room 7128, 400 Seventh Street, SW., Washington, DC 20590. * * *

6. Section 195.214 would be amended by revising the section heading and paragraph (a) to read as follows:

§ 195.214 Welding procedures.

(a) Welding must be performed by a qualified welder in accordance with welding procedures qualified under Section 5 of API 1104 or Section IX of the ASME Boiler and Pressure Vessel Code. The quality of the test welds used to qualify the procedure shall be determined by destructive testing.

* * * * *

7. Section 195.222 would be revised to read follows:

§ 195.222 Welders: Qualification of welders.

Each welder must be qualified in accordance with Section 6 of API 1104 or Section IX of the ASME Boiler and Pressure Vessel Code, except that a welder qualified under an earlier edition than listed in 195.3 may weld but may not requalify under that earlier edition.

8. Paragraph (b) of § 195.228 would be revised to read as follows:

§ 195.228 Welds and welding inspection: Standards of acceptability.

* * * * *

(b) The acceptability of a weld is determined according to the standards in Section 9 of API 1104. However, if a girth weld is unacceptable under those standards for a reason other than a crack, and if Appendix A to API 1104 applies to the weld, the acceptability of the weld may be determined under that appendix.

9. Section 195.440 would be amended by revising the first sentence to read as follows:

§ 195.440 Public education.

Each operator shall establish a continuing education program to enable the public, appropriate government organizations and persons engaged in excavation-related activities to recognize a hazardous liquid or a carbon dioxide pipeline emergency and to report it to the qualified one-call system, the operator, or the fire, police, or other appropriate public officials. * * *

Issued in Washington, DC on March 8, 2000.
Richard B. Felder,
Associate Administrator for Pipeline Safety.

[FR Doc. 00-6353 Filed 3-21-00; 8:45 am]

BILLING CODE 4910-60-P